ENVIRONMENTAL PROTECTION AGENCY

40 CFR Part 52

[CO-001-0060b; MT-001-0032b; FRL-7055-5]

Approval and Promulgation of Air Quality Implementation Plans for Colorado and Montana: Transportation Conformity

AGENCY: Environmental Protection Agency (EPA).

ACTION: Proposed rule.

SUMMARY: EPA is proposing to take direct final action to approve revisions to the Colorado and Montana State Implementation Plans (SIPs) that incorporate consultation procedures for transportation conformity. The conformity rules assure that in air quality nonattainment or maintenance areas, projected emissions from transportation plans and projects stay within the motor vehicle emissions ceiling in the SIP. The transportation conformity SIP revisions enable the States to implement and enforce transportation conformity consultation procedures at the State level per regulations for Conformity to State or Federal Implementation Plans of Transportation Plans, Programs, and Projects Developed, Funded or Approved Under Title 23 U.S.C. or the Federal Transit Laws. Our approval action would streamline the conformity process and allow direct consultation among agencies at the local levels. EPA is taking this action under section 110(k) and 176 of the Clean Air Act (Act).

In the “Rules and Regulations” section of this Federal Register, EPA is approving the State's SIP revisions as a direct final rule without prior proposal because the Agency views these as non controversial revisions and anticipates no adverse comments. A detailed rationale for the approval is set forth in the preamble to the direct final rule. If EPA receives no adverse comments, EPA will not take further action on this proposed rule. If EPA receives adverse comments, EPA will withdraw the direct final rule and it will not take effect. EPA will address all public comments in a subsequent final rule based on this proposed rule. EPA will not institute a second comment period on this action. Any parties interested in commenting on this action should do so at this time.

DATES: Comments must be received in writing on or before October 22, 2001.

ADDRESSES: Written comments may be mailed to: Richard R. Long, Director, Air and Radiation Program, Mailcode 8P-AR, United States Environmental Protection Agency, Region VIII, 999 18th Street, Suite 300, Denver, Colorado 80202-2466.

Copies of the documents relevant to this action are available for public inspection during normal business hours at the following offices: United States Environmental Protection Agency, Region VIII, Air and Radiation Program, 999 18th Street, Suite 300, Denver, Colorado 80202-2466; and, United States Environmental Protection Agency, Air and Radiation Docket and Information Center, 401 M Street, SW., Washington, DC 20460.

Copies of the State documents relevant to this action are available for public inspection at: Colorado Department of Public Health and Environment, 4300 Cherry Creek Dr. S., Denver, Colorado 80246-1530. Montana Department of Environmental Quality, Planning, Prevention and Assistance Division, 1520 East 6th Avenue, Helena, Montana 59620.

FOR FURTHER INFORMATION CONTACT: Kerri Fiedler, Air and Radiation Program, Mailcode 8P-AR, United States Environmental Protection Agency, Region VIII, 999 18th Street, Suite 300, Denver, Colorado 80202-2466. Telephone number: (303) 312-6493.

SUPPLEMENTARY INFORMATION: See the information provided in the Direct Final action of the same title which is located in the Rules and Regulations section of this Federal Register.

Authority: 42 U.S.C. 7401 et seq.

Dated: September 5, 2001.
Jack W. McGraw,
Acting Regional Administrator, Region VIII.

[FR Doc. 01-23597 Filed 9-20-01; 8:45 am]

BILLING CODE 6560-50-P